DEPARTMENT OF THE TREASURY

Agency Information Collection Activities; Submission for OMB Review; Comment Request; U.S. Income Tax Return Forms for Individual Taxpayers

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before February 10, 2021 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION: Title: U.S. Income Tax Return for Individual Taxpayers.

OMB Control Number: 1545-0074.

Regulation Project Number: Form 1040 and affiliated return forms.

Abstract: IRC sections 6011 & 6012 of the Internal Revenue Code require individuals to prepare and file income tax returns annually. These forms and related schedules are used by individuals to report their income subject to tax and compute their correct tax liability. This information collection request (ICR), covers the actual reporting burden associated with preparing and submitting the prescribed return forms, by individuals required to file Form 1040 and any of its affiliated forms as explained in the attached table.

Current Actions: There have been changes in regulatory guidance related to various forms approved under this approval package during the past year. There have been additions and removals of forms included in this approval package. These changes will have an impact on the overall burden and cost estimates requested for this approval package, however these estimates were not finalized at the time of release of the 60-day Federal Register notice on October 30, 2020 (85 FR 68956). The estimated burden figures have been updated and summarized below.

Type of Review: Revision of a currently approved collection.

Affected Public: Individuals or Households, Farms.

Estimated Number of Respondents: 164,500,000.

Estimated Time per Respondent: 12 hours.

Estimated Total Annual Burden Hours: 1.955 billion.

Total Estimated Out-of-Pocket Costs: $37.960 billion.

Estimated Out-of-Pocket Cost per Respondent: $231.

Total Monetized Burden: $71.943 billion.

Estimated Total Monetized Burden per Respondent: $437.

Note: Amounts below are estimates for FY 2021. Reported time and cost burdens are national averages and do not necessarily reflect a “typical” case. Most taxpayers experience lower than average burden, with taxpayer burden varying considerably by taxpayer type. Totals may not add due to rounding.

Table 1—ICB Estimates for the 1040/SR/NR/NR-EZ/X Series of Returns and Supporting Forms and Schedules FY2021
| FY20 | Program change due to adjustment | Program change due to new legislation | Program change due to agency | FY 21
Number of Taxpayers | 159,300,000 | 5,200,000 |  |  | 164,500,000
Burden in Hours | 1,717,000,000 | 279,000,000 |  |  | 1,995,000,000
Burden in Dollars | 33,267,000,000 | 4,695,000,000 |  | (1,000,000) | 37,960,000,000
Monetized Total Burden | 60,997,000,000 | 10,951,000,000 |  | (4,000,000) | 71,943,000,000

Table 2 below provides information specific to taxpayer burden incurred by Form 1040 filers.

Table 2—All Form 1040 Filers
Primary form filed or type of taxpayer | Primary form filed or type of taxpayer: Percentage of returns | Time burden: Average time burden (hours) ***: Total time | Time burden: Average time burden (hours) ***: Recordkeeping | Time burden: Average time burden (hours) ***: Tax planning | Time burden: Average time burden (hours) ***: Form completion and submission | Time burden: Average time burden (hours) ***: All other | Money burden: Average cost (dollars) | Money burden: Total monetized burden (dollars)
All Taxpayers | 100 | 12 | 5 | 2 | 4 | 1 | $230 | $440
Type of Taxpayer:
Nonbusiness ** | 70 | 8 | 3 | 1 | 3 | 1 | 140 | 270
Business ** | 30 | 21 | 11 | 3 | 5 | 2 | 440 | 840
Note: This table does not include 1040NR, 1040NR-EZ, and 1040X filers.
Detail may not add to total due to rounding. Dollars rounded to the nearest $10.
** A “business” filer files one or more of the following with Form 1040: Schedule C, C-EZ, E, F, Form 2106, or 2106-EZ. A “non-business” filer does not file any of these schedules or forms with Form 1040.
*** Times are rounded to nearest hour.

Authority: 44 U.S.C. 3501 et seq.

Dated: January 6, 2021.
Molly Stasko,
Treasury PRA Clearance Officer.

Appendix A
Form No. | Form name
Form 1040 | U.S. Individual Tax Return.
Form 1040 Schedule 1 | Form 1040 Schedule 1 Additional Income and Adjustments to Income.
Form 1040 Schedule 1 (SP) | Additional Income and Adjustments to Income in Spanish.
Form 1040 Schedule 2 | Form 1040 Schedule 2 Tax.
Form 1040 Schedule 2 (SP) | Additional Taxes in Spanish.
Form 1040 Schedule 3 | Form 1040 Schedule 3 Nonrefundable Credits.
Form 1040 Schedule 3 (SP) | Additional Credits and Payments in Spanish.
Form 1040 Schedule 4 | Form 1040 Schedule 4 Other Taxes.
Form 1040 Schedule 5 | Form 1040 Schedule 5 Other payments and Refundable Credits.
Form 1040 Schedule 6 | Form 1040 Schedule 6 Foreign Address and Third-Party Designee.
Form 1040-C | U.S. Departing Alien Income Tax Return.
Form 1040 X | Amended U.S. Individual Income Tax Return.
Form 1040 NR | U.S. Nonresident Alien Income Tax Return.
Form 1040 NR-EZ | U.S. Income Tax Return for Certain Nonresident Aliens with No Dependents.
Form 1040-PR | Planilla Para La Declaracion De La Contribucion Federal Sobre El Trabajo Por Cuenta Propia—Puerto Rico.
Form 1040-SR | U.S. Income Tax Return for Seniors.
Form 1040-SS | U.S. Self-Employment Tax Return (Including the Additional Child Tax Credit for Bona Fide Residents of Puerto Rico).
Schedule A (1040) | Itemized Deductions.
Schedule B (Form 1040) | Interest and Ordinary Dividends.
Schedule C (Form 1040) | Profit or Loss from Business.
Schedule C-EZ (Form 1040) | Net Profit from Business.
Schedule D (Form 1040) | Capital Gains and Losses.
Schedule E (Form 1040) | Supplemental Income and Loss.
Schedule EIC (Form 1040) | Earned Income Credit.
Schedule EIC (SP) (F. 1040) | Earned Income Credit (Spanish version).
Schedule F (Form 1040) | Profit or Loss from Farming.
Schedule H (Form 1040) and Sch H(PR) | Household Employment Taxes.
Schedule J (Form 1040) | Income Averaging for Farmers and Fishermen.
Schedule LEP | Request for Alternative Language Products by Taxpayers with Limited English Proficiency (LEP).
Schedule LEP (SP) | Schedule LEP Limited English Proficiency (SP).
Schedule R (Form 1040) | Credit for the Elderly or the Disabled.
Schedule SE (Form 1040) | Self-Employment Tax.
Form 1040 V | Payment Voucher.
Form 1040 ES/OCR | Estimated Tax for Individuals (Optical Character Recognition with Form 1040V).
Form 1040 ES | Estimate Tax for Individuals.
Form 1040 ES (NR) | U.S. Estimated Tax for Nonresident Alien Individuals.
Form 1040 ES (PR) | Federales Estimadas del Trabajo por Cuenta Propia y sobre el Impleo de Empleados Domestocs-Puerto Rico.
Form 461 | Limitation on Business Losses.
Form 673 | Statement for Claiming Exemption from Withholding on Foreign Earned Income Eligible for the Exclusions Provided by Section 911.
Form 926 | Return by a U.S. Transferor of Property to a Foreign Corporation.
Form 965-A | Individual Report of Net 965 Tax Liability.
Form 965-C | Transfer Agreement Under 965(h)(3).
Form 970 | Application to Use LIFO Inventory Method.
Form 972 | Consent of Shareholder to Include Specific Amount in Gross Income.
Form 982 | Reduction of Tax Attributes Due to Discharge of Indebtedness (and Section 1082 Basis Adjustment).
Form 1045 | Application for Tentative Refund.
Form 1098-F | Fines, Penalties and Other Amounts.
Form 1116 | Foreign Tax Credit.
Form 1127 | Application for Extension of Time for Payment of Tax.
Form 1128 | Application to Adopt, Change, or Retain a Tax Year.
Form 1310 | Statement of Person Claiming Refund Due to a Deceased Taxpayer.
Form 2106 | Employee Business Expenses.
Form 2106-EZ | Unreimbursed Employee Business Expenses.
Form 2120 | Multiple Support Declaration.
Form 2210 | Underpayment of Estimated Tax by Individuals, Estates, and Trusts.
Form 2210-F | Underpayment of Estimated Tax by Farmers and Fishermen.
Form 2350 | Application for Extension of Time to File U.S. Income Tax Return.
Form 2350 SP | Solicitud de Prorroga para Presentar la Declaracion del Impuesto Personal sobre el Ingreso de lose Estados Unidos.
Form 2441 | Child and Dependent Care Expenses.
Form 2555 | Foreign Earned Income.
Form 2555 EZ | Foreign Earned Income Exclusion.
Form 3115 | Application for Change in Accounting Method.
Form 3468 | Investment Credit.
Form 3520 | Annual Return to Report Transactions with Foreign Trusts and Receipt of Certain Foreign Gifts.
Form 3800 | General Business Credit.
Form 3903 | Moving Expenses.
Form 4070 | Employee's Report of Tips to Employer.
Form 4070A | Employee's Daily Record of Tips.
Form 4136 | Credit for Federal Tax Paid on Fuels.
Form 4137 | Social Security and Medicare Tax on Underreported Tip Income.
Form 4255 | Recapture of Investment Credit.
Form 4361 | Application for Exemption from Self-Employment Tax for Use by Ministers, Members of Religious Orders, and Christian Science Practitioners.
Form 4562 | Depreciation and Amortization.
Form 4563 | Exclusion of Income for Bona Fide Residents of American Samoa.
Form 4684 | Causalities and Thefts.
Form 4797 | Sale of Business Property.
Form 4835 | Farm Rental Income and Expenses.
Form 4852 | Substitute for Form W-2, Wage and Tax Statement or Form 1099-R, Distributions from Pension Annuities, Retirement or Profit-Sharing Plans, IRAs, Insurance Contracts, etc..
Form 4868 | Application for Automatic Extension of Time to File Individual U.S. Income Tax Return.
Form 4868 SP | Solicitud de Prorroga Automatica para Presentar la Declaracion del Impuesto sobre el Ingreso Personal de los Estados Unidos.
Form 4952 | Investment Interest Expense Deduction.
Form 4970 | Tax on Accumulation Distribution of Trusts.
Form 4972 | Tax on Lump-Sum Distributions.
Form 5074 | Allocation of Individual Income Tax to Guam or the Commonwealth of the Northern Mariana Islands (CNMI).
Form 5213 | Election to Postpone Determination as to Whether the Presumption Applies that an Activity is Engaged in for Profit.
Form 5329 | Additional Taxes on Qualified Plans (Including IRAs) and Other Tax-Favored Accounts.
Form 5405 | First-Time Homebuyer Credit.
Form 5471 | Information Return of U.S. Persons with Respect to Certain Foreign Corporations.
Schedule J (Form 5471) | Accumulated Earnings and Profits (E&P) and Taxes of Controlled Foreign Corporations.
Schedule M (Form 5471) | Transactions Between Controlled Foreign Corporation and Shareholders or Other Related Persons.
Schedule O (Form 5471) | Organization or Reorganization of Foreign Corporation, and Acquisitions and Dispositions of its Stock.
Form 5695 | Residential Energy Credits.
Form 5713 | International Boycott Report.
Schedule A (Form 5713) | International Boycott Factor (Section 999(c)(1)).
Schedule B (Form 5713) | Specifically Attributable Taxes and Income (Section 999(c)(2)).
Schedule C (Form 5713) | Tax Effect of the International Boycott Provisions.
Form 5884 | Work Opportunity Cost.
Form 5884-A | Credits for Affected Disaster Area Employees.
Form 6198 | At-Risk Limitations.
Form 6251 | Alternative Minimum Tax-Individuals.
Form 6252 | Installment Sale Income.
Form 6478 | Biofuel Producer Credit.
Form 6765 | Credit for Increasing Research Activities.
Form 6781 | Gains and Losses from Section 1256 Contracts and Straddles.
Form 8082 | Notice of Inconsistent Treatment or Administrative Adjustment Request (AAR).
Form 8275 | Disclosure Statement.
Form 8275-R | Regulation Disclosure Statement.
Form 8283 | Noncash Charitable Contributions.
Form 8332 | Release of Claim to Exemption for Child of Divorced or Separated Parents.
Form 8379 | Injured Spouse Claim and Allocation.
Form 8396 | Mortgage Interest Credit.
Form 8453 | U.S. Individual Income Tax Declaration for an IRS e-file Return.
Schedule LEP | Request for Alternative Language Products by Taxpayers with Limited English Proficiency (LEP).
Schedule LEP (SP) | Schedule LEP Limited English Proficiency (SP).
Schedule 1 (SP) (F. 1040) | Additional Income and Adjustments to Income in Spanish.
Schedule 2 (SP) (F. 1040) | Additional Taxes in Spanish.
Schedule 3 (SP) (F. 1040) | Additional Credits and Payments in Spanish.
Schedule EIC (SP) (F. 1040) | Earned Income Credit (Spanish version).
8915-D | Qualified 2019 Disaster Retirement Plan Distributions and Repayments.
Form 8453(SP) | U.S. Individual Income Tax Declaration for an IRS e-file Return (Spanish version).
Form 8582 | Passive Activity Loss Limitation.
Form 8582-CR | Passive Activity Credit Limitations.
Form 8586 | Low-Income Housing Credit.
Form 8594 | Asset Acquisition Statement Under Section 1060.
Form 8606 | Nondeductible IRAs.
Form 8609-A | Annual Statement for Low-Income Housing Credit.
Form 8611 | Recapture of Low-Income Housing Credit.
Form 8615 | Tax for Certain Children Who Have Investment Income of More than $1,800.
Form 8621 | Return by a Shareholder of a Passive Foreign Investment Company or Qualified Electing Fund.
Form 8621-A | Return by a Shareholder Making Certain Late Elections to End Treatment as a Passive Foreign Investment Company.
Form 8689 | Allocation of Individual Income Tax to the Virgin Islands.
Form 8697 | Interest Computations Under the Look-Back Method for Completed Long-Term Contracts.
Form 8801 | Credit for Prior Year Minimum Tax-Individuals, Estates, and Trusts.
Schedule 8812 (Form 1040) | Additional Child Tax Credit.
Schedule 8812(SP) (Form 1040) | Additional Tax Credit (Spanish version).
Form 8814 | Parents' Election to Report Child's Interest and Dividends.
Form 8815 | Exclusion of Interest from Series EE and I U.S. Savings Bonds Issued After 1989.
Form 8818 | Optional Form to Record Redemption of Series EE and I U.S. Savings Bonds Issued After 1989.
Form 8820 | Orphan Drug Credit.
Form 8824 | Like-Kind Exchanges.
Form 8826 | Disabled Access Credit.
Form 8828 | Recapture of Federal Mortgage Subsidy.
Form 8829 | Expenses for Business Use of Your Home.
Form 8833 | Treaty-Based Return Position Disclosure Under Section 6114 or 7701(b).
Form 8834 | Qualified Electric Vehicle Credit.
Form 8835 | Renewable Electricity, Refined Coal, and Indian Coal Production Credit.
Form and Instruction | Form 8838.
Form | Form 8839.
Form 8840 | Closer Connection Exception Statement for Aliens.
Form 8843 | Statement for Exempt Individuals and Individuals with a Medical Condition.
Form 8844 | Empowerment Zone and Renewal Community Employment Credit.
Form 8845 | Indian Employment Credit.
Form 8846 | Credit for Employer Social Security and Medicare Taxes Paid on Certain Employee Tips.
Form 8853 | Archer MSA's and Long-Term Care Insurance Contracts.
Form 8854 | Initial and Annual Expatriation Information Statement.
Form 8858 | Information Return of U.S. Persons with Respect to Foreign Disregarded Entities.
Schedule M (Form 8858) | Transactions Between controlled Foreign Disregarded Entity and Filer or Other Related Entities.
Form 8859 | District of Columbia First-Time Homebuyer Credit.
Form 8862 | Information to Claim Earned Income Credit After Disallowance.
Form 8862(SP) | Information to Claim Earned Income Credit After Disallowance (Spanish Version).
Form 8863 | Education Credits.
Form 8864 | Biodiesel and Renewable Diesel Fuels Credit.
Form 8865 | Return of U.S. Persons with Respect to Certain Foreign Partnerships.
Schedule K-1 (Form 8865) | Partner's Share of Income Deductions, Credits, etc.
Schedule O (Form 8865) | Transfer of Property to a Foreign Partnership.
Schedule P (Form 8865) | Acquisitions, Dispositions, and Changes of Interests in a Foreign Partnership.
Form 8866 | Interest Corporation Under the Look-Back Method for Property Depreciated Under the Income Forecast Method.
Form 8873 | Extraterritorial Income Exclusion.
Form 8874 | New Markets Credit.
Form 8878 | IRS e-file Signature Authorization for Form 4686 or Form 2350.
Form 8878 SP | Autorizacion de firma para presentar por medio del IRS e-file para el Formulario 4868 (SP) o el Formulario 2350 (SP).
Form 8879 | IRS e-file Signature Authorization.
Form 8879 SP | Autorizacion de firm para presentar la Declaracion por medio del IRS e-file.
Form 8880 | Credit for Qualified Retirement Savings Contributions.
Form 8881 | Credit for Small Employer Pensions Plan Startup Costs.
Form 8882 | Credit for Employer-Provided Childcare Facilities and Services.
Form 8885 | Health Coverage Tax Credit.
Form 8886 | Reportable Transaction Disclosure Statement.
Form 8888 | Direct Deposit of Refund to More than One Account.
Form 8889 | Health Savings Accounts (HSAs).
Form 8891 | Beneficiaries of Certain Canadian Registered Retirement Plans.
Form 8896 | Low Sulfur Diesel Fuel Production Credit.
Form 8898 | Statement for Individuals Who Begin or End Bona Fide Residence in a U.S. Possession.
Form 8900 | Qualified Railroad Track Maintenance Credit.
Form 8903 | Domestic Production Activities Deduction.
Form 8906 | Distills Spirits Credit.
Form 8908 | Energy Efficient Home Credit.
Form 8910 | Alternative Motor Vehicle Credit.
Form 8911 | Alternative Fuel Vehicle Refueling Property Credit.
Form 8912 | Credit to Holders of Tax Credit Bonds.
Form 8915-A | Qualified 2016 Disaster Retirement Plan Distributions and Repayments.
Form 8915-B | Qualified 2017 Disaster Retirement Plan Distributions and Repayments.
Form 8915-C | Qualified 2018 Disaster Retirement Plan Distributions and Repayments.
Form 8915-D | Qualified 2019 Disaster Retirement Plan Distributions and Repayments.
Form 8917 | Tuition and Fees Deduction.
Form 8919 | Uncollected Social Security and Medicare Tax on Wages.
Form 8925 | Report of Employer-Owned Life Insurance Contracts.
Form 8932 | Credit for Employer Differential Wage Payments.
Form 8933 | Carbon Dioxide Sequestration Credit.
Form 8936 | Qualified Plug-In Electric Drive Motor Vehicle Credit.
Form 8941 | Credit for Small Employer Health Insurance Premiums.
Form 8949 | Sales and other Dispositions of Capital Assets.
Form 8958 | Allocation of Tax Amounts Between Certain Individuals in Community Property States.
Form 8962 | Premium Tax Credit.
Form 8965 | Health Coverage Exemptions.
8993 | Section 250 Deduction for Foreign-Derived Intangible Income (FDII) and Global Intangible Low-Taxed Income (GILTI).
Form 8994 | Employer Credit for Paid Family and Medical Leave.
Form 9000 | Alternative Media Preference.
Form 9465 | Installment Agreement Request.
Form 9465 SP | Solicitud para un Plan de Pagos a Plazos.
Form T (Timber) | Forest Activities Schedules.
Form W-4 | Employee's Withholding Allowance Certificate.
FormW—4 P | Withholding Certificate for Pension or Annuity Payments.
Form W-4 S | Request for Federal Income Tax Withholding from Sick Pay.
Form W-4 V | Voluntary Withholding Request.
Form W-4 (SP) | Certificado de Exencion de la Retencion del Empleado.
Form W-7 | Application for IRS Individual Taxpayer Identification Number.
Form W-7 A | Application for Taxpayer Identification Number for Pending U.S. Adoptions.
Form W-7 (SP) | Solicitud de Numero de Indenticacion Personal del Contribuyente del Servico de Impuestos Internos.
Form W-7 (COA) | Certificate of Accuracy for IRS Individual Taxpayer Identification Number.

[FR Doc. 2021-00316 Filed 1-8-21; 8:45 am]

BILLING CODE 4830-01-P